DEPARTMENT OF LABOR

Employment and Training Administration

[TA-W-73,555]

Hewlett-Packard Company Division of Corporate Administration and Shared Services Including On-Site Leased Workers From Manpower and Including Workers Off-Site From Various States in the United States Reporting to Omaha, NE; Including Employees of Hewlett-Packard Company Division of Corporate Administration and Shared Services Including On-Site Leased Workers From Manpower and Including Workers From the Following Locations: TA-W-73,555A Syracuse, NY; TA-W-73,555B Marlboro, MA; TA-W-73,555C Atlanta, GA; and TA-W-73,555D Colorado Springs, CO; Amended Certification Regarding Eligibility To Apply for Worker Adjustment Assistance

In accordance with Section 223 of the Trade Act of 1974, as amended (“Act”), 19 U.S.C. 2273, the Department of Labor issued a Certification of Eligibility to Apply for Worker Adjustment Assistance on May 20, 2010, applicable to workers of Hewlett-Packard Company, Division of Corporate Administration and Shared Services, including on-site leased workers from Manpower and including workers off-site from various states in the United States reporting to Omaha, Nebraska. The notice was published in the Federal Register on June 7, 2010 (75 FR 32223).

At the request of a company official, the Department reviewed the certification for workers of the subject firm. The workers are engaged in activities related to the supply of order management and post-sales customer support services.

New information shows that worker separations also occurred during the relevant time period at the Syracuse, New York, Marlboro, Massachusetts, Atlanta, Georgia and Colorado Springs, Colorado locations of Hewlett-Packard Company, Division of Corporate Administration and Shared Services. The relevant data supplied by Hewlett-Packard to the Department during its' investigation included the above four locations.

Based on these findings, the Department is amending this certification to include employees of the Syracuse, New York, Marlboro, Massachusetts, Atlanta, Georgia and Colorado Springs, Colorado locations of the subject firm.

The intent of the Department's certification is to include all workers of the subject firm who were adversely affected by a shift in the supply of order management and post-sales customer support services to Guadalajara, Mexico.

The amended notice applicable to TA-W-73,555 is hereby issued as follows:

All workers of Hewlett-Packard Company, Division of Corporate Administration and Shared Services, including on-site leased workers from Manpower and including workers off-site from various states throughout the United States reporting to Omaha, Nebraska (TA-W-73,555) and including workers of Hewlett-Packard Company, Division of Corporate Administration and Shared Services, including on-site leased workers from Manpower and including workers of the following locations: Syracuse, New York (TA-W-73,555A), Marlboro, Massachusetts (TA-W-73,555B), Atlanta, Georgia (TA-W-73,555C) and Colorado Springs, Colorado (TA-W-73,555D), who became totally or partially separated from employment on or after February 17, 2009 through May 20, 2012, and all workers in the group threatened with total or partial separation from employment on date of certification through two years from the date of certification, are eligible to apply for adjustment assistance under Chapter 2 of Title II of the Trade Act of 1974, as amended.

Signed in Washington, DC, this 24th day of June 2010.
Richard Church,
Certifying Officer, Division of Trade Adjustment Assistance.

[FR Doc. 2010-16422 Filed 7-6-10; 8:45 am]

BILLING CODE 4510-FN-P